DEPARTMENT OF ENERGY

Federal Energy Regulatory Commission

[Docket No. OR03-1-000]

Phillips Petroleum Company, Complainant v. Platte Pipe Line Company, Respondent; Notice of Complaint

November 15, 2002.

Take notice on November 14, 2002, pursuant to Rule 206 of the Commission's Rules of Practice and Procedure (18 CFR 385.206) and the Procedural Rules Applicable to Oil Pipeline Procedures (18 CFR 343.1(a)), Phillips Petroleum Company (Phillips) filed a Complaint in the captioned proceeding. Phillips alleges that Platte Pipe Line Company (Platte) has violated and continues to violate the Interstate Commerce Act, 49 U.S.C. App. 1 et seq., by charging unjust, unreasonable, unduly preferential, and unduly discriminatory rates for its pump-over service which transfers crude oil to the Frontier Pipeline Company at Casper, Wyoming, as more fully set forth in the Complaint.

Phillips requests that the Commission: (1) Examine Platte's challenged rates for its interstate pump-over service at Casper; (2) order refunds and/or reparations to Phillips, including appropriate interest thereon, for the applicable refund and/or reparation periods to the extent the Commission finds that such rates are unlawful; (3) determine just, reasonable, and nondiscriminatory rates for Platte's jurisdictional interstate pump-over service; (4) award Phillips reasonable attorneys' fees and costs; and (5) order such other relief as may be appropriate.

Phillips states that it has served the Complaint on Platte. Pursuant to Rule 343.3 of the Commission's Procedural Rules Applicable to Oil Pipeline Proceedings, Platte's response to this Complaint is due within 30 days of the filing of the Complaint.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's web site under the “e-Filing” link. The Commission strongly encourages electronic filings.

Comment Date: December 5, 2002.

Linwood A. Watson, Jr.,
Deputy Secretary.

[FR Doc. 02-29718 Filed 11-20-02; 8:45 am]

BILLING CODE 6717-01-P